DEPARTMENT OF COMMERCE

International Trade Administration

[A-570-904]

Certain Activated Carbon From the People's Republic of China: Extension of Time Limits for Preliminary Results of the Second Antidumping Duty Administrative Review

AGENCY: Import Administration, International Trade Administration, Department of Commerce.

EFFECTIVE DATE: November 24, 2009.

FOR FURTHER INFORMATION CONTACT: Robert Palmer, AD/CVD Operations, Office 9, Import Administration, International Trade Administration, U.S. Department of Commerce, 14th Street and Constitution Avenue, NW, Washington DC 20230; telephone: (202) 482-9068.

SUPPLEMENTARY INFORMATION:

Background

On May 29, 2009, the Department of Commerce (“the Department”) published in the Federal Register a notice of initiation of an administrative review of the antidumping duty order on certain activated carbon from the People's Republic of China (“PRC”) covering the period April 1, 2008, through March 31, 2009. See Initiation of Antidumping and Countervailing Duty Administrative Reviews, 74 FR 25711 (May 29, 2009).

On August 10, 2009, the Department selected two mandatory respondents in the above-referenced administrative review pursuant to section 777A(c)(2)(B) of the Tariff Act of 1930, as amended (“the Act”). See Memorandum to James C. Doyle, Director, Office 9, from Katie Marksberry, Case Analyst, RE: Antidumping Duty Administrative Review of Certain Activated Carbon from the People's Republic of China: Selection of Respondents for Individual Review, dated August 10, 2009.

On August 19, 2009, one of the two original mandatory respondents filed a letter with the Department withdrawing its request for a review. See Letter from Calgon Carbon Tianjin Co., Ltd. (“CCT”) to the Department regarding Activated Carbon from the PRC-Withdrawal of Request for Administrative Review, dated August 19, 2009. On August 21, 2009, Petitioners¹ filed a letter withdrawing their request for review of CCT. See Letter from Petitioners to the Department regarding Second Administrative Review of the Antidumping Duty Order on Certain Activated Carbon from the PRC (August 21, 2009). Therefore, on September 18, 2009, we selected Ningxia Huahui Activated Carbon Co., Ltd. (“Huahui”) as a mandatory respondent. See Memorandum to James C. Doyle, Director, Office 9, through Catherine Bertrand, Program Manager, Office 9, from Katie Marksberry, Case Analyst, Office 9 RE: Antidumping Duty Administrative Review of Certain Activated Carbon from the People's Republic of China: Selection of Additional Mandatory Respondent, dated September 18, 2009. The preliminary results of this administrative review are currently due on December 31, 2009.

¹ Calgon Carbon Corporation and Norit Americas Inc. (“Petitioners”).

Statutory Time Limits

Section 751(a)(3)(A) of the Act requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The preliminary results are currently due on December 31, 2009. This administrative review covers two mandatory respondents, one of whom has numerous suppliers which requires the Department to gather and analyze a significant amount of information pertaining to each supplier's manufacturing methods. Moreover, because the department selected Huahui after the request for review was withdrawn for CCT, the receipt of Huahui's initial questionnaire is within close proximity of the unextended preliminary results. The current due date does not afford the Department adequate time to gather, analyze, request supplementary information, and allow parties to comment and provide information on appropriate surrogate values regarding Huahui's responses.

Therefore, in accordance with section 751(a)(3)(A) of the Act, the Department finds that it is not practicable to complete the preliminary results within the original time period and thus the Department is extending the time limit for issuing the preliminary results by 120 days until April 30, 2010. The final results continue to be due 120 days after the publication of the preliminary results.

This notice is published pursuant to sections 751(a)(3)(A) and 777(i)(1) of the Act and 19 CFR 351.213(h)(2).

Dated: November 18, 2009.
John M. Andersen,
Acting Deputy Assistant Secretary for Antidumping and Countervailing Duty Operations.

[FR Doc. E9-28179 Filed 11-23-09; 8:45 am]

BILLING CODE 3510-DS-S